DEPARTMENT OF THE INTERIOR

Bureau of Reclamation

[FES-02-35]

Implementation Agreement, Inadvertent Overrun and Payback Policy and Related Federal Actions, Lower Colorado River, Arizona, California and Nevada

AGENCY: Bureau of Reclamation, Interior.

ACTION: Notice of availability of a final environmental impact statement (EIS).

SUMMARY: Pursuant to the National Environmental Policy Act (NEPA) of 1969, as amended, and the Council on Environmental Quality's Regulations for Implementing the Procedural Provisions of NEPA, the Bureau of Reclamation (Reclamation) has issued the Implementation Agreement, Inadvertent Overrun and Payback Policy and Related Federal Actions Final EIS (Final IA EIS). Execution of the Implementation Agreement (IA) would commit the Secretary of the Interior (Secretary) to make Colorado River water deliveries in accordance with the terms and conditions of the IA to enable certain southern California water agencies (participating agencies) to implement the proposed Quantification Settlement Agreement (QSA).

DATES: No decision will be made on the proposed action until at least 30 days after the United States Environmental Protection Agency's (EPA) Notice of Availability for the Final IA EIS has been published in the Federal Register. At this time, it is anticipated the Secretary of the Interior (Secretary) will complete a Record of Decision (ROD) prior to December 31, 2002.

ADDRESSES: A copy of the Final IA EIS is available for public inspection and review at the locations listed in the SUPPLEMENTARY INFORMATION section. An internet version of the document is available on Reclamation's Lower Colorado River Operations Web site at http://www.lc.usbr.gov/lcrivops.html. In addition, hard copy or computer diskette versions of the document are also available upon request from Ms. Janet Steele, Boulder Canyon Operations Office, Bureau of Reclamation, BCOO-4601, PO Box 61470, Boulder City, Nevada 89006, telephone 702-293-8551, faxogram 702-293-8042.

FOR FURTHER INFORMATION CONTACT: Questions regarding the Final IA EIS should be directed to Mr. Bruce D. Ellis, Phoenix Area Office, Bureau of Reclamation, PXAO-1500, PO Box 81169, Phoenix Arizona 85069-1169, telephone 602-216-3854, faxogram 602-216-4006.

SUPPLEMENTARY INFORMATION: The Secretary, pursuant to the Boulder Canyon Project Act of 1928 and Arizona v. California 1964 Supreme Court Decree (376 U.S. 340), proposes to take Federal actions necessary to support the implementation of the QSA. The QSA is an agreement in principle among the participating agencies. It establishes a framework of conservation measures and water transfers within southern California for up to 75 years. It provides a substantial mechanism for California to reduce its diversions of Colorado River water in normal years to its 4.4 million acre-feet per year apportionment.

The purpose of the Federal action is to facilitate implementation of the QSA. The need for the Federal action is to assist California's efforts to reduce its use of Colorado River water to its 4.4 million acre-feet apportionment in a normal year. This reduction in California's use of Colorado River water would benefit the entire Colorado River Basin. The proposed Federal action includes the following components: Execution of an IA, wherein the Secretary agrees to changes in the amount and/or location of deliveries of Colorado River water that are necessary to implement the QSA; adoption of an Inadvertent Overrun and Payback Policy (IOP), which establishes requirements for payback of inadvertent overuse of Colorado River water by Colorado River water users in Arizona, California, and Nevada; and implementation of biological conservation measures to offset potential impacts from the proposed action that could occur to federally listed fish and wildlife species.

The Final IA EIS describes the potential environmental impacts of the three components that make up the proposed Federal action. Because the purpose of the proposed action is to provide Federal approval of an agreement negotiated among the participating agencies, no other action alternatives to the IA are considered in the Final IA EIS. Similarly, the biological conservation measures proposed to be implemented under the proposed action relate specifically to the water transfers specified in the IA and QSA. These measures were developed and agreed to by Reclamation and the U.S. Fish and Wildlife Service (FWS) in response to Reclamation's August 2000 Biological Assessment, and were incorporated into a FWS January 2001 Biological Opinion; no alternatives to the biological conservation measures are considered in the Final IA EIS. With regard to the IOP, in response to scoping comments received, Reclamation developed an alternative that would eliminate the forgiveness of payment aspect of the proposed policy. This alternative has been evaluated and is described in the Final IA EIS.

The Final IA EIS describes the direct impacts of changing the point of delivery of up to 388,000 acre-feet per year (KAFY) of Colorado River water, from Imperial Dam to Parker Dam, such as changes in Colorado River flow and reservoir storage. The Final IA EIS also describes and incorporates by reference analyses of off-river impacts that would result from actions taken by the QSA participating agencies as a result of implementing the QSA. This is because the changes in water deliveries agreed to by the Secretary in the IA will enable the QSA to be fully implemented. The non-Federal actions carried out by the participating agencies pursuant to the QSA need to comply with the California Environmental Quality Act, California Endangered Species Act, and other State and local requirements. Toward that end, an Environmental Impact Report/Environmental Impact Statement was prepared for the IID Water Conservation and Transfer Project (IID EIR/EIS).

The IID EIR/EIS describes the potential impacts from IID's proposed project that would conserve and transfer the right to use up to 300 KAFY of Colorado River water, which IID would otherwise divert for use within IID's water service area in Imperial County, California. The conserved water would be transferred to San Diego County Water Authority, Coachella Valley Water District and/or The Metropolitan Water District of Southern California. These transfers are associated with the QSA and would remain in effect for up to 75 years. The change in delivery point of up to 300 KAFY associated with the IID Water Conservation and Transfer Project is included as part of the 388 KAFY change in point of delivery evaluated in the Final IA EIS. In concert with the water conservation actions associated with the IID Water Conservation and Transfer Project, IID has developed a Habitat Conservation Plan (HCP), which would mitigate impacts to covered species from those water conservation actions (as well as ongoing IID operation and maintenance activities). The HCP would provide the basis for FWS to issue “take” authorization (under section 10 of the ESA) to IID for its potential impacts to listed species. FWS has indicated it does not anticipate taking an action on the HCP at this time. Because issuance of the section 10 permit by FWS is uncertain, Reclamation has initiated a consultation with FWS under section 7 of the ESA on the voluntary implementation of certain biological conservation measures, which could provide an alternative mechanism for obtaining “take” authorization for the California water agencies. The section 7 approach and its impacts are described in this Final IA EIS. A more detailed description of IID's water conservation actions and the HCP are included in the IID Final EIR/EIR (FES-02-36), which is being filed with EPA concurrently with this Final IA EIS.

A copy of the Final IA EIS is available for public inspection and review at the following locations:

• Department of the Interior, Natural Resources Library, 1849 C St., NW., Washington, DC 20240.

• Bureau of Reclamation, Denver Office Library, Building 67, Room 167, Denver Federal Center, 6th and Kipling, Denver, CO 80225.

• Bureau of Reclamation, Lower Colorado Regional Office, Nevada Highway and Park St., Boulder City, NV 89006.

• Bureau of Reclamation, Phoenix Area Office, 2222 W. Dunlap Ave., Suite 100, Phoenix, AZ 85021.

• Bureau of Reclamation, Southern California Area Office, 27710 Jefferson Ave., Suite 201, Temecula, CA 92590-2628.

• Bureau of Reclamation, Yuma Area Office, 7301 Calle Agua Salada, Yuma, AZ 85364-9763.

• Bureau of Reclamation, Upper Colorado Regional Office, 125 S. State St., Salt Lake City, UT 84138-1102.

• Lake Havasu City Library, 1787 McCulloch Blvd. North, Lake Havasu City, AZ 86403.

• Mohave County Library, 1170 Hancock Rd., Bullhead City, AZ 86442.

• Parker Public Library, 1001 S. Navajo Ave., Parker, AZ 85344.

• Phoenix Public Library (Burton Barr Central), 1221 N. Central Ave., AZ 85004.

• Yuma County Library, 350 S. 3rd Ave., Yuma, AZ 85364.

• Los Angeles Central Library, 630 W. 5th St., Los Angeles, CA 90071.

• Palo Verde Valley Library, 125 W. Canslor Way, Blythe, CA 92225.

• San Bernardino County Library, 1111 Bailey Ave., Needles, CA 92363.

• San Diego Central Library, 820 E St., San Diego, CA 92101.

• Henderson District Public Library, 280 South Water St., Henderson, NV 89015.

• Salt Lake City Public Library, 209 E 500 S, Salt Lake City, UT 84111.

No decision will be made on the proposed action until at least 30 days after EPA's Notices of Availability for the Final IA EIS and the October 2002 Final IID EIR/EIS have been published in the Federal Register. At this time, it is anticipated the Secretary will complete a ROD prior to December 31, 2002. The ROD will state the action that will be implemented and will discuss all factors leading to the decision. Any changes that have been made to the proposed species conservation plan will be evaluated prior to decision-making to determine what, if any, additional environmental compliance documentation is needed. These determinations will be addressed in the ROD.

Dated: October 29, 2002.
Willie Taylor,
Director, Office of Environmental Policy and Compliance.

[FR Doc. 02-28508 Filed 11-7-02; 8:45 am]

BILLING CODE 4310-MN-P